FEDERAL COMMUNICATIONS COMMISSION

Public Information Collections Approved By Office of Management and Budget

August 9, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0806.

OMB Approval date: 11/12/2004.

Expiration Date: 11/30/2007.

Title: Universal Service—Schools and Libraries Universal Service Program.

Form No.: FCC 470. FCC 471.

Estimated Annual Burden: 60,000 responses; 480,000 total annual burden hours; approximately .166-4.5 hours average per respondent.

Needs and Uses: In 1997 the Commission adopted rules providing support for the Universal Service Schools and Libraries Support Mechanism (E-rate Program). FCC Forms 470 and 471 are required to determine eligibility by schools and libraries for discounts under the program, so that they can purchase telecommunications services, internet access, internal connections, and maintenance services. Pursuant to suggestions from the Department of Justice, the Commission is now implementing changes to its FCC Forms 470 and 471 in an effort to prevent waste, fraud and abuse in the program. The changes made to the FCC Forms 470 and 471 will make the E-Rate process more transparent, and will make transgressions of the law easier to detect and prosecute.

Federal Communications Commission.
Marlene H. Dortch,
Secretary.

[FR Doc. 05-16335 Filed 8-23-05; 8:45 am]

BILLING CODE 6712-01-P